DEPARTMENT OF THE INTERIOR

Fish and Wildlife Service

Notice of Availability; Draft Environmental Impact Statement on Light Goose Management

AGENCY: Fish and Wildlife Service, Interior.

ACTION: Notice of availability for public comment.

SUMMARY: The U.S. Fish and Wildlife Service (Service) has prepared a Draft Environmental Impact Statement (DEIS) which is available for public review. The DEIS analyzes the potential environmental impacts of several management alternatives for addressing problems associated with overabundant light goose populations. The analysis provided in the DEIS is intended to accomplish the following: inform the public of the proposed action and alternatives; address public comment received during the scoping period; and disclose the direct, indirect, and cumulative environmental effects of the proposed actions and each of the alternatives. The Service invites the public to comment on the DEIS.

DATES: Written comments on the DEIS must be received on or before November 28, 2001.

ADDRESSES: Requests for copies of the DEIS should be mailed to Chief, Division of Migratory Bird Management, U.S. Fish and Wildlife Service, Department of the Interior, ms 634—ARLSQ, 1849 C Street NW., Washington, DC 20240. Copies of the DEIS can be downloaded from the Division of Migratory Bird Management web site at http://migratorybirds.fws.gov/issues/snowgse/tblcont.html. Comments on the DEIS should be sent to the above address. Alternatively, comments may be submitted electronically to the following address: white_goose_eis@fws.gov.

FOR FURTHER INFORMATION CONTACT: Jon Andrew, Chief, Division of Migratory Bird Management, (703) 358-1714; or James Kelley (612) 713-5409.

SUPPLEMENTARY INFORMATION: On May 13, 1999, a notice was published in the Federal Register (64 FR 26268) announcing that the Service intended to prepare an Environmental Impact Statement addressing problems associated with overabundant light goose populations. Comments were received and considered and are reflected in the DEIS made available for comment through this notice. This notice is provided pursuant to Fish and Wildlife Service regulations for implementing the National Environmental Policy Act of 1969 (40 CFR 1506.6).

Several public hearings will be held throughout the country during the comment period to solicit oral comments from the public. The dates and locations of these hearings are yet to be determined. A notice of public meetings with the locations, dates, and times will be published in the Federal Register.

In order to be considered, electronic submission of comments must include your name and postal mailing address; we will not consider anonymous comments. All comments received, including names and addresses, will become part of the public record. The public may inspect comments during normal business hours in Room 634—Arlington Square Building, 4401 N. Fairfax Drive, Arlington, Virginia. Requests for such comments will be handled in accordance with the Freedom of Information Act and the Council on Environmental Quality's National Environmental Policy Act regulations [40 CFR 1506.6(f)]. Our practice is to make comments available for public review during regular business hours. Individual respondents may request that we withhold their home address from the record, which we will honor to the extent allowable by law. If a respondent wishes us to withhold his/her name and/or address, this must be stated prominently at the beginning of the comment.

The DEIS evaluates four management alternatives to address habitat destruction and agricultural depredations caused by light geese on various breeding, migration, and wintering areas: (1) No Action or a continuation to manage light goose populations through existing wildlife management policies and practices (Alternative A); (2) modify harvest regulation options and refuge management (Alternative B) (PROPOSED); (3) implement direct agency control of light goose populations on migration and wintering areas in the U.S. (Alternative C); (4) seek direct light goose population control on breeding grounds in Canada (Alternative D). Our proposed alternative (Alternative B) modifies existing light goose hunting regulations to expand methods of take during normal hunting season frameworks. In addition, we propose to create a conservation order to allow take of light geese outside of normal hunting season frameworks. We would also modify management practices on certain National Wildlife Refuges to alter the availability of food and sanctuary to light geese.

Dated: September 28, 2001.
Marshall P. Jones, Jr.,
Acting Director.

[FR Doc. 01-24775 Filed 10-4-01; 8:45 am]

BILLING CODE 4310-55-P